INTERNATIONAL TRADE COMMISSION

[Investigation No. 337-TA-1439]

Certain Polyvinylidene Fluoride Resins; Notice of Commission Determination Not To Review an Initial Determination Granting a Motion To Amend the Complaint and Notice of Investigation

AGENCY: U.S. International Trade Commission.

ACTION: Notice.

SUMMARY: Notice is hereby given that the U.S. International Trade Commission has determined not to review an initial determination (“ID”) (Order No. 19) granting a motion to amend the complaint and notice of investigation.

FOR FURTHER INFORMATION CONTACT: Robert Needham, Esq., Office of the General Counsel, U.S. International Trade Commission, 500 E Street SW, Washington, DC 20436, telephone (202) 708-5468. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on February 21, 2025, based on a complaint filed by Syensqo SA of Brussels, Belgium; Solvay Specialty Polymers, USA LLC of Alpharetta, Georgia; and Solvay Specialty Polymers Italy S.P.A. of Bollate, Italy (together, “Complainants”). 90 FR 10082-83 (Feb. 21, 2025). The complaint, as supplemented, alleges violations of section 337 of the Tariff Act of 1930, as amended, 19 U.S.C. 1337, in the importation into the United States, the sale for importation, or the sale within the United States after importation of certain polyvinylidene fluoride resins by reason of infringement of claims 1-7, 10, and 12 of U.S. Patent No. 8,337,725. Id. The complaint further alleges that a domestic industry exists or is in the process of being established. Id. The Commission's notice of investigation named as respondents Inner Mongolia 3F Wanhao, Fluorochemical Industry Co. Ltd. of Fengzhen, China (“3F”); Zhejiang Juhua Co., Ltd. of Quzhou City, China; Zhejiang Fluorine Chemical New Material Co. Ltd. of Shaoxing, China; Hubei Fluorine New Materials Co., Ltd. of Dongtan Village, China; and Sinochem Lantian Co., Ltd. of Hangzhou, China. Id. The Office of Unfair Import Investigations is not participating in the investigation. Id.

On April 21, 2025, the Commission terminated the investigation with respect to 3F based on settlement. Order No. 8 (Mar. 28, 2025), unreviewed by Comm'n Notice (Apr. 21, 2025).

On November 18, 2025, Complainants moved for leave to amend the complaint and notice of investigation to change the name of two complainants to reflect corporate name changes: (1) Solvay Specialty Polymers, USA LLC to Syensqo Specialty Polymers, USA LLC; and (2) Solvay Specialty Polymers Italy S.P.A. to Syensqo Specialty Polymers Italy S.P.A. No party opposed the motion.

On November 19, 2025, the ALJ issued the subject ID (Order No. 19) granting the motion pursuant to 19 CFR 210.14(b)(1). The ALJ found that there was good cause to change the names of the two complainants to reflect their corporate name changes and that the change would not result in prejudice. No party petitioned for review of the subject ID.

The Commission has determined not to review the subject ID.

The Commission vote for this determination took place on December 5, 2025.

The authority for the Commission's determination is contained in section 337 of the Tariff Act of 1930, as amended (19 U.S.C. 1337), and in Part 210 of the Commission's Rules of Practice and Procedure (19 CFR part 210).

By order of the Commission.
Issued: December 9, 2025.
Lisa Barton,
Secretary to the Commission.

[FR Doc. 2025-22580 Filed 12-10-25; 8:45 am]

BILLING CODE 7020-02-P